DEPARTMENT OF COMMERCE

International Trade Administration

[A-570-851]

Notice of Amended Final Results of Antidumping Duty Administrative Review: Certain Preserved Mushrooms from the People's Republic of China

AGENCY: Import Administration, International Trade Administration, Department of Commerce.

SUMMARY: On September 14, 2005 the Department of Commerce (the “Department”) published the final results and final rescission, in part, of the administrative review of the antidumping duty order on certain preserved mushrooms from the People's Republic of China (“PRC”), covering the period of review (POR) February 1, 2003, through January 31, 2004. See Certain Preserved Mushrooms from the People's Republic of China: Final Results and Final Rescission, In Part, of Antidumping Duty Administrative Review, 70 FR 54361 (September 14, 2005) (“Final Results”). We are amending our Final Results to correct ministerial errors made in the calculations of the dumping margins for Xiamen International Trade & Industrial Co., Ltd. (“XITIC”), Shandong Jiufa Edible Fungus Corporation, Ltd. (“Jiufa”) and Guangxi Hengxian Pro-Lights Foods, Inc. (“Guangxi Hengxian”) pursuant to section 751(h) of the Tariff Act of 1930, as amended (the Act).

EFFECTIVE DATE: October 17, 2005.

FOR FURTHER INFORMATION CONTACT: P. Lee Smith or Christopher Riker, AD/CVD Operations, Office 9, Import Administration, International Trade Administration, U.S. Department of Commerce, 14th Street and Constitution Avenue NW., Washington, DC 20230; telephone: (202) 482-1655 or (202) 482-3441, respectively.

SUPPLEMENTARY INFORMATION:

Scope of Order

The products covered by this order are certain preserved mushrooms, whether imported whole, sliced, diced, or as stems and pieces. The certain preserved mushrooms covered under this order are the species Agaricus bisporus and Agaricus bitorquis. “Certain Preserved Mushrooms” refer to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.¹

¹ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. On February 9, 2005, this decision was upheld by the United States Court of Appeals for the Federal Circuit. See Tak Fat v. United States, 396 F.3d 1378 (Fed. Cir. 2005).

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Background

On September 14, 2005, the Department of Commerce published the Final Results and corresponding issues and decision memorandum. See Memorandum from Barbara E. Tillman Acting Deputy Assistant Secretary for Import Administration to Joseph A. Spetrini Acting Assistant Secretary for Import Administration, Issues and Decision Memorandum for the Final Results in the 2003/2004 Administrative Review of Certain Preserved Mushrooms from the People's Republic of China.

On September 13, 2005, Jiufa, XITIC and the Coalition for Fair Preserved Mushroom Trade (“petitioners”) filed timely allegations that the Department made various ministerial errors in the Final Results. On September 16, 2005, China Processed Food Import & Export Company and its affiliates (“COFCO”) filed rebuttal comments to ministerial error allegations submitted by the petitioners.² No other interested party submitted ministerial error allegations.

² We have not addressed comments pertaining to clerical allegations relating to COFCO's margin in the Final Results because the U.S. Court of International Trade has obtained jurisdiction those results pursuant to COFCO's appeal. See China Processed Food Import & Export Company v. United States, Court No. 05-00515 (Complaint filed September 19, 2005); see also, Zenith Elecs. Corp. v. United States, 884 F.2d 556, 561 (Fed. Cir. 1989).

A ministerial error is defined in Section 751(h) of the Act and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that ministerial errors existed in the calculations for the Final Results. For a detailed discussion of these ministerial errors, as well as the Department's analysis, see memorandum from Christopher D. Riker to James C. Doyle, Analysis of Ministerial Error Allegations, dated October 7, 2005 (“Ministerial Error Allegation Memorandum”). The Ministerial Error Allegation Memorandum is on file in the Central Records Unit, room B-099 in the main Department building.

Therefore, in accordance with Section 751(h) of the Act and 19 CFR 351.224(e), we are amending the Final Results of the administrative review of certain preserved mushrooms from the PRC. The revised weighted-average dumping margins are detailed in the “Antidumping Duty Order” section, below. For company-specific calculations see Memorandum from John Conniff, through Christopher D. Riker to the File, Analysis Memorandum for the Amended Final Results for XITIC (October 7, 2005); Memorandum from John Conniff through Christopher D. Riker, to the File, Analysis Memorandum for the Amended Final Results for Jiufa (October 7, 2005); Memorandum from Amber Musser through Christopher D. Riker to the File, Analysis Memorandum for the Amended Final Results for Guangxi Hengxian (October 7, 2005). The revised final weighted-average dumping margins are as follows:

Exporter | Percent
Shandong Jiufa Edible Fungus Corporation Ltd. | 3.60
Xiamen International Trade & Industrial Co., Ltd. | 0.00
Guangxi Hengxian Pro-Light Foods (Zhangzhou) Co., Ltd. | 21.38

The Department shall determine, and U.S. Customs and Border Protection shall assess, antidumping duties on all appropriate entries based on the amended final results. For details on the assessment of antidumping duties on all appropriate entries, see Final Results.

These amended final results are published in accordance with sections 751(h) and 777(I)(1) of the Act.

Dated: October 7, 2005.
Joseph A. Spetrini,
Acting Assistant Secretary for Import Administration.

[FR Doc. E5-5714 Filed 10-14-05; 8:45 am]

BILLING CODE 3510-DS-S